DEPARTMENT OF AGRICULTURE

Grain Inspection, Packers and Stockyards Administration

Deposting of Stockyards

AGENCY: Grain Inspection, Packers and Stockyards Administration, USDA.

ACTION: Notice.

SUMMARY: We are deposting 21 stockyards. These facilities can no longer be used as stockyards and, therefore, are no longer required to be posted.

EFFECTIVE DATE: April 8, 2005.

SUPPLEMENTARY INFORMATION: The Grain Inspection, Packers and Stockyards Administration (GIPSA) administers and enforces the Packers and Stockyards Act of 1921, as amended and supplemented (7 U.S.C. 181-229) (P&S Act). The P&S Act prohibits unfair, deceptive, and fraudulent practices by livestock market agencies, dealers, stockyard owners, meat packers, swine contractors, and live poultry dealers in the livestock, poultry, and meatpacking industries.

Section 302 of the P&S Act (7 U.S.C. 202) defines the term “stockyard” as follows:

* * * any place, establishment, or facility commonly known as stockyards, conducted, operated, or managed for profit or nonprofit as a public market for livestock producers, feeders, market agencies, and buyers, consisting of pens, or other inclosures, and their appurtenances, in which live cattle, sheep, swine, horses, mules, or goats are received, held, or kept for sale or shipment in commerce.

Section 302 (b) of the P&S Act requires the Secretary to determine which stockyards meet this definition, and to notify the owner of the stockyard and the public of that determination by posting a notice in each designated stockyard. After giving notice to the stockyard owner and to the public, the stockyard is subject to the provisions of Title III of the P&S Act (7 U.S.C. 201-203 and 205-217a) until the Secretary deposts the stockyard by public notice.

We depost a stockyard when the facility can no longer be used as a stockyard. Some of the reasons a facility can no longer be used as a stockyard include: the facility has been moved and the posted facility is abandoned, the facility has been torn down or otherwise destroyed, such as by fire, the facility is dilapidated beyond repair, or the facility has been converted and its function changed.

This document notifies the public that the following 21 stockyards no longer meet the definition of stockyard and that we are deposting the facilities.

Facility No. | Stockyard name and location | Date posted
CA-102 | Atwater Livestock Auction, Atwater, California | October 1, 1959.
IL-107 | Kankakee Livestock Company, Bourbonnais, Illinois | November 17, 1959.
IL-134 | St. Louis National Stock Yards, National Stockyards, Illinois | November 1, 1921.
IL-146 | Pittsfield Community Sale, Pittsfield, Illinois | November 17, 1959.
IL-172 | Vienna Livestock, Vienna, Illinois | April 6, 1990.
KY-100 | Twin Lakes Livestock Auction, Incorporated, Albany, Kentucky | December 9, 1959.
KY-101 | Jolley's Feeder Pig Auction, Albany, Kentucky | May 8, 1968.
KY-154 | Tompkinsville Livestock Auction, Inc., Tompkinsville, Kentucky | December 10, 1959.
KY-164 | Walton Stockyards, Inc., Walton, Kentucky | August 22, 1979.
MI-130 | Owosso Livestock Sales Company, Owosso, Michigan | April 22, 1959.
MN-107 | Canby Livestock Auction, Canby, Minnesota | March 17,1960.
MN-116 | Fergus Falls Livestock Exchange, Inc., Fergus Falls, Minnesota | November 12, 1959.
MN-146 | Northern States Cattle and Hay Exchange, Inc., Sauk Centre, Minnesota | September 15, 1959.
MN-162 | Southwestern Minnesota Livestock Sales Pavilion, Worthington, Minnesota | September 15, 1959.
MT-111 | Kalispell Livestock Auction, Kalispell, Montana | December 13, 1965.
OH-106 | Western Ohio Livestock Exchange, Celina, Ohio | June 10, 1959.
SC-135 | Martin & Martin Cattle, Inc., Anderson, South Carolina | October 17, 1983.
WI-106 | Equity Livestock Auction Market, Dodgeville, Wisconsin | October 24, 1961.
WI-107 | Equity Livestock Auction Market, Ettrick, Wisconsin | April 14, 1971.
WI-122 | Equity Livestock Auction Market, Ripon, Wisconsin | May 15, 1959.
WI-133 | Equity Livestock Auction Market, Beetown, Wisconsin | February 4, 1976.

Effective Date

This notice is effective upon publication in the Federal Register because it relieves a restriction and, therefore, may be made effective in less than 30 days after publication in the Federal Register without prior notice or other public procedure.

Authority: 7 U.S.C. 202.

David Orr,
Acting Administrator, Grain Inspection, Packers and Stockyards Administration.

[FR Doc. 05-7015 Filed 4-7-05; 8:45 am]

BILLING CODE 3410-EN-P